DEPARTMENT OF THE INTERIOR

Bureau of Safety and Environmental Enforcement

[BOEM-2021-0043; EEEE500000 234E1700D2 ET1SF0000.EAQ000]

Oil and Gas Decommissioning Activities on the Pacific Outer Continental Shelf

AGENCY: Bureau of Safety and Environmental Enforcement (BSEE), DOI.

ACTION: Notice of availability of the final programmatic Environmental Impact Statement (PEIS) for oil and gas decommissioning activities on the Pacific Outer Continental Shelf.

SUMMARY: BSEE announces the availability of the Final PEIS for Oil and Gas Decommissioning Activities on the Pacific Outer Continental Shelf (OCS). The Final PEIS identifies BSEE's Proposed Action and analyzes its potential environmental impacts, as well as those of three alternative actions and a number of alternative component activities.

DATES: BSEE will issue a Record of Decision no sooner than November 4, 2023.

ADDRESSES: The Final PEIS with appendices is available for review on the Bureau of Ocean Energy Management's (BOEM's) website at www.boem.gov/Pacific-Decomm-PEIS.

FOR FURTHER INFORMATION CONTACT: For further information on the Final PEIS, you may contact BOEM or BSEE. The BOEM point of contact (POC) is Mr. Richard Yarde, Regional Supervisor, Bureau of Ocean Energy Management, Pacific OCS Region, 760 Paseo Camarillo, Suite 102, Camarillo, CA 93010-6002. You may also contact Mr. Yarde by telephone at (805) 384-6379 or email at richard.yarde@boem.gov. The BSEE POC is Mr. Bruce Hesson, Regional Director, Bureau of Safety and Environmental Enforcement, Pacific Region, 760 Paseo Camarillo, Suite 102, Camarillo, CA 93010. You may also contact Mr. Hesson by telephone at (805) 384-6373 or email at bruce.hesson@bsee.gov.

SUPPLEMENTARY INFORMATION:

Proposed Action: The proposed action evaluated in this Final PEIS is for BSEE to review and approve, reject, or approve with conditions, operator decommissioning applications for the complete removal and disposal of Pacific OCS oil and gas platforms, associated pipelines, and other facilities. Under the proposed action, all platforms, pipelines, and other facilities, and their related infrastructure, would be removed to a depth of 15 feet below the mudline, as required by regulation (30 CFR 250.1728(a)).

Alternatives Considered: The four alternatives analyzed in the Final PEIS include complete removal (Proposed Action), partial removal without artificial reef option, partial removal with artificial reef option, and no action. The activities analyzed in the PEIS include, but are not limited to, platform removal employing non-explosive severance, removal of associated pipelines and other facilities and obstructions, onshore disposal, abandonment-in-place of associated pipelines, complete removal of topside superstructure, partial jacket removal to at least 85 feet below the waterline, and one sub-alternative using explosive severance if necessary for the platform jackets.

Availability of the Final PEIS: You may download or view the Final PEIS, appendices, and associated information on the following BOEM website: www.boem.gov/Pacific-Decomm-PEIS, or on the following BSEE website: https://www.bsee.gov/stats-facts/ocs-regions/pacific/pacific-region-federal-ocs-decommissioning. You may also contact BOEM or BSEE at the above addresses for a copy on a flash drive or a paper copy.

Authority: 42 U.S.C. 4231 et seq.; 40 CFR 1506.6.

Kevin M. Sligh, Sr.,
Director, Bureau of Safety and Environmental Enforcement.

[FR Doc. 2023-23623 Filed 10-26-23; 8:45 am]

BILLING CODE P